DEPARTMENT OF DEFENSE

Office of the Secretary

Military Leadership Diversity Commission (MLDC); Meeting

AGENCY: Office of the Under Secretary of Defense for Personnel and Readiness, DoD.

ACTION: Meeting notice.

SUMMARY: Under the provisions of the Federal Advisory Committee Act of 1972 (5 U.S.C., Appendix, as amended), the Government in the Sunshine Act of 1976 (5 U.S.C. 552b, as amended), and 41 CFR 102-3.150, DoD announces that the Military Leadership Diversity Commission (MLDC or Commission) will meet on January 14 and 15, 2010, to address congressional concerns as outlined in the Commission's charter. Subject to the availability of space, the meeting will be open to the public.

DATES: The meeting will be held January 14 (from 8 a.m. to 6 p.m.) and January 15, 2010 (from 8 a.m. to 1:15 p.m.).

ADDRESSES: The meeting will be held at the Hilton Palacio del Rio, 200 S. Alamo Street, San Antonio, TX 78205.

FOR FURTHER INFORMATION CONTACT: Committee's Designated Federal Officer or Point of Contact: Master Chief Steven A. Hady, Designated Federal Officer, MLDC, at (703) 602-0838 or (571) 882-0140, 1851 South Bell Street, Suite 532, Arlington, VA. E-mail Steven.Hady@wso.whs.mil.

SUPPLEMENTARY INFORMATION:

Agenda

The commissioners of the MLDC will meet to continue their efforts to address congressional concerns as outlined in the commission charter.

January 14, 2010

8 a.m.-11:45 p.m.

DFO opens the meeting

Commission Chairman opening remarks

MG Joe Robles (ret) briefs the commission

BG Alfred Valenzuela (ret) briefs the commission

Briefings from Service representatives from organizations responsible for promotion

11:45 p.m.

DFO recesses the meeting

12:45 p.m.-5:45 p.m.

DFO opens meeting

Briefings from Service representatives from organizations responsible for promotion

5:45 p.m.

Commission Chairman closing remarks

DFO adjourns the meeting

January 15, 2010

8 a.m.-1:15 p.m.

DFO opens the meeting

Commission Chairman opening remarks

Open discussion on career development: branching and assignments

Open discussion on outreach and recruiting

Open discussion on career development: diversity management and training

Open discussion on legal implications of diversity management

1:15 p.m.

Commission Chairman closing remarks

DFO adjourns the meeting

Public's Accessibility to the Meeting

Pursuant to 5 U.S.C. 552b and 41 CFR 102-3.140 through 102-3.165, and the availability of space, the meeting will be open to the public. Please note that the availability of seating is on a first-come basis.

Written Statements

Pursuant to 41 CFR 102-3.105(j) and 102-3.140, and section 10(a)(3) of the Federal Advisory Committee Act of 1972, the public or interested organizations may submit written statements to the MLDC about its mission and functions. Written statements may be submitted at any time or in response to the stated agenda of a planned meeting of the Commission.

All written statements shall be submitted to the Designated Federal Officer for the Military Leadership Diversity Commission, and this individual will ensure that the written statements are provided to the membership for their consideration. Contact information for the Designated Federal Officer can be obtained from the GSA's FACA Database— https://www.fido.gov/facadatabase/public.asp.

Statements being submitted in response to the agenda mentioned in this notice must be received by the Designated Federal Officer (see FOR FURTHER INFORMATION CONTACT) at least five calendar days prior the meeting which is the subject of this notice. Written statements received after this date may not be provided to or considered by the Commission until its next meeting.

The Designated Federal Officer will review all timely submissions with the MLDC Chairperson and ensure they are provided to all members of the Commission before the meeting that is the subject of this notice.

Dated: December 14, 2009.
Mitchell S. Bryman,
Alternate OSD Federal Register Liaison Officer, Department of Defense.

[FR Doc. E9-29999 Filed 12-16-09; 8:45 am]

BILLING CODE 5001-06-P